DEPARTMENT OF INTERIOR

National Park Service

Great Sand Dunes National Park Advisory Council Meeting

AGENCY: National Park Service, DOI.

ACTION: Announcement of meeting.

SUMMARY: Great Sand Dunes National Park and Preserve announces two meetings of the Great Sand Dunes National Park Advisory Council, which was established to provide guidance to the Secretary on long-term planning for Great Sand Dunes National Park and Preserve.

DATES: The meeting dates are:

1. March 3, 2005, 8:30 a.m.-4:30 p.m., Mosca, Colorado.

2. April 28, 2005, 8:30 a.m.-4:30 p.m., Crestone, Colorado.

ADDRESSES: The meeting location is:

1. Mosca, Colorado—Great Sand Dunes National Park and Preserve Visitor Center, 11500 Highway 150, Mosca, CO 81146.

2. Crestone, Colorado—The Baca Grande Property Owners’ Association Building, 68575 County Road T, Crestone, CO 81131.

FOR FURTHER INFORMATION CONTACT: Steve Chaney, 719-378-6312.

SUPPLEMENTARY INFORMATION: At its March 3 meeting, the Great Sand Dunes National Park Advisory Council will meet to review public input received through earlier public meetings regarding draft alternatives for the park's general management plan. Based on the range of alternatives being considered, they will discuss what kinds of impact topics should be included in the Environmental Impact Statement. The public is invited to provide comments to the Advisory Council between 4 and 4:30 p.m.

At its April 28 meeting, the Great Sand Dunes National Park Advisory Council will meet to review NPS preliminary findings on impacts and costs of general management plan alternatives, and will discuss what factors should be considered when the NPS selects a preferred alternative. The public is invited to provide comments to the Advisory Council between 4 and 4:30 p.m. The April 28 meeting will be held at the Baca Grande Property Owners Association Building, 68575 County Road T, which is located four miles west of the town of Crestone on County Road T, immediately after the golf course on the north side of the road.

Stephen P. Martin,
Regional Director.

[FR Doc. 05-4731 Filed 3-9-05; 8:45 am]

BILLING CODE 4310-70-P